SECURITIES AND EXCHANGE COMMISSION

[File No. 500-1]

In the Matter of MarilynJean Interactive Inc.; Order of Suspension of Trading

August 26, 2016

It appears to the Securities and Exchange Commission that there is a lack of current and accurate information concerning the securities of MarilynJean Interactive Inc. (CIK 0001504464) because of concerns about recent, unusual and unexplained market activity in the company's common stock. MarilynJean Interactive Inc. is a Nevada corporation with its principal place of business located in Henderson, Nevada. Its stock is quoted on OTC Link (previously “Pink Sheets”), operated by OTC Markets Group Inc., under the ticker: MJMI.

The Commission is of the opinion that the public interest and the protection of investors require a suspension of trading in the securities of the above-listed company.

Therefore, It Is Ordered, pursuant to Section 12(k) of the Securities Exchange Act of 1934, that trading in the securities of the above-listed company is suspended for the period from 9:30 a.m. EDT on August 26, 2016, through 11:59 p.m. EDT on September 9, 2016.

By the Commission.
Lynn M. Powalski,
Deputy Secretary.

[FR Doc. 2016-20924 Filed 8-26-16; 4:15 pm]

BILLING CODE 8011-01-P